DEPARTMENT OF COMMERCE

International Trade Administration

[A-427-602, A-428-806, A-475-601, A-588-704]

Brass Sheet and Strip From France, Italy, Germany and Japan: Continuation of Antidumping Duty Orders

AGENCY: Import Administration, International Trade Administration, Department of Commerce.

SUMMARY: As a result of the determinations by the Department of Commerce (the “Department”) that revocation of the antidumping duty (“AD”) orders on brass sheet and strip from France, Germany, Italy and Japan would likely lead to continuation or recurrence of dumping, and the determinations by the International Trade Commission (the “ITC”) that revocation of the AD orders would likely lead to a continuation or recurrence of material injury to an industry in the United States, the Department is publishing this notice of the continuation of the AD orders.

DATES: Effective Date: April 26, 2012.

FOR FURTHER INFORMATION CONTACT: Mahnaz Khan or Yasmin Nair, AD/CVD Operations, Office 1, Import Administration, U.S. Department of Commerce, 14th Street and Constitution Avenue NW., Washington, DC 20230; telephone (202) 482-0914 and (202) 482-3813, respectively.

SUPPLEMENTARY INFORMATION:

Background

On March 1 and 2, 2011, respectively, the Department and the ITC initiated the third sunset reviews of the antidumping duty orders on brass sheet and strip from France, Italy, Germany and Japan, pursuant to section 751(c) of the Tariff Act of 1930, as amended (“the Act”). See Initiation of Five-Year (“Sunset”) Review, 76 FR 11202 (March 1, 2011); and Brass Sheet and Strip from France, Germany, Italy, and Japan, Investigations Nos. 731-TA-313, 314, 317, and 379 (Third Review), 76 FR 11509 (March 2, 2011). As a result of this sunset review, the Department determined that revocation of the antidumping duty orders on brass sheet and strip from France, Italy, Germany and Japan would be likely to lead to continuation or recurrence of dumping and notified the ITC of the magnitude of the margins likely to prevail should the orders be revoked. See Brass Sheet and Strip from France, Italy and Japan: Final Results of the Expedited Third Sunset Reviews of the Antidumping Duty Orders, 76 FR 39849 (July 7, 2011); and Brass Sheet and Strip from Germany: Final Results of the Full Third Five-Year (“Sunset”) Review of the Antidumping Duty Order, 77 FR 4762, (January 31, 2012).

On April 19, 2012, pursuant to section 752(a) of the Act, the ITC published its determination that revocation of the antidumping duty orders on brass sheet and strip from France, Germany, Italy and Japan would likely lead to continuation or recurrence of material injury to an industry in the United States within a reasonably foreseeable time. See Brass Sheet and Strip from France, Germany, Italy and Japan, Investigation Nos. 731 TA 313, 314, 317 and 379 (Third Review), 77 FR 23508 (April 19, 2012).

Scope of the Orders

The product covered by the orders is brass sheet and strip, other than leaded and tinned brass sheet and strip. The chemical composition of the covered product is currently defined in the Copper Development Association (“C.D.A.”) 200 Series or the Unified Numbering System (“U.N.S.”) C2000. The orders do not cover products the chemical compositions of which are defined by other C.D.A. or U.N.S. series. In physical dimensions, the product covered by the orders has a solid rectangular cross section over 0.006 inches (0.15 millimeters) through 0.188 inches (4.8 millimeters) in finished thickness or gauge, regardless of width. Coiled, wound-on-reels (traverse wound), and cut-to-length products are included. The merchandise is currently classified under Harmonized Tariff Schedule of the United States (“HTSUS”) item numbers 7409.21.00 and 7409.29.00.

Although the HTSUS item numbers are provided for convenience and customs purposes, the written description of the scope of the orders remains dispositive.

Continuation of the Order

As a result of the determinations by the Department and the ITC that revocation of these antidumping duty orders would likely lead to continuation or recurrence of dumping and material injury to an industry in the United States, pursuant to section 751(d)(2) of the Act, the Department hereby orders the continuation of the antidumping duty orders on brass sheet and strip from France, Italy, Germany and Japan.

U.S. Customs and Border Protection will continue to collect antidumping duty cash deposits at the rates in effect at the time of entry for all imports of subject merchandise. The effective date of continuation of these orders will be the date of publication in the Federal Register of this notice of continuation. Pursuant to section 751(c)(2) of the Act, the Department intends to initiate the next five-year review of this order not later than 30 days prior to the fifth anniversary of the effective date of continuation.

This five-year sunset review and this notice are in accordance with section 751(c) of the Act and published pursuant to section 777(i)(1) of the Act.

Dated: April 20, 2012.
Paul Piquado,
Assistant Secretary for Import Administration.

[FR Doc. 2012-10091 Filed 4-25-12; 8:45 am]

BILLING CODE 3510-DS-P